DEPARTMENT OF THE INTERIOR

Bureau of Land Management

[BLM_NV_FRN_MO4500179239]

Notice of Realty Action: Direct Sale of Public Land for Affordable Housing Purposes in Clark County, NV

AGENCY: Bureau of Land Management, Interior.

ACTION: Notice of realty action.

SUMMARY: The Bureau of Land Management (BLM) proposes to sell a 20-acre public land parcel located in the southwestern portion of the Las Vegas Valley, Nevada, under the authorities of the Federal Land Policy and Management Act of 1976 (FLPMA), as amended, the BLM land sale regulations, and the Southern Nevada Public Land Management Act of 1998 (SNPLMA), as amended. The BLM proposes that the parcel be sold by direct sale (without competition) to the Clark County Department of Social Services, a division of the State of Nevada, at less than the appraised fair market value for affordable housing purposes pursuant to SNPLMA and applicable BLM policy.

DATES: Submit written comments regarding this direct sale until September 3, 2024.

ADDRESSES: Mail written comments to the BLM Las Vegas Field Office, Assistant Field Manager, Division of Lands, 4701 North Torrey Pines Drive, Las Vegas, Nevada 89130.

FOR FURTHER INFORMATION CONTACT: Brad Gallimore, Supervisory Realty Specialist, Las Vegas Field Office, by email: sgallimore@blm.gov, or by telephone: (702) 515-5069. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Clark County Department of Social Services submitted a sale nomination to the BLM for the proposed affordable housing project called Cactus Trails Affordable Housing Project. Affordable housing-related disposals are processed by the BLM in Nevada following the procedures outlined in Attachment 1 (Procedures for Affordable Housing Disposals) of Instruction Memorandum NV-2024-005 (Availability of Revised Nevada Guidance on Procedures for Affordable Housing Disposals and Fiscal Year 2024 Price for Affordable Housing Land Disposals and Incorporation of the Memorandum of Understanding for Affordable Housing), commonly referred to as the “Nevada Guidance.” For purposes of SNPLMA, affordable housing serves low-income families as defined in section 104 of the Cranston-Gonzales National Affordable Housing Act. The Cranston-Gonzales National Affordable Housing Act defines low-income families as those whose incomes do not exceed 80 percent of the Area Median Income, as determined annually by the Secretary of Housing and Urban Development, or as otherwise defined by the Secretary of Housing and Urban Development pursuant to 42 U.S.C. 12704.

The subject public lands are legally described as:

Mount Diablo Meridian, Nevada

T. 22 S., R. 60 E.,

Sec. 27, W½NE¼SE¼SW¼, E½SW1/4SE¼SW¼, and SE¼SE¼SW¼.

The area described contains 20 acres, according to the official plats of the surveys of said land on file with the BLM.

This direct sale is in conformance with the BLM Las Vegas Resource Management Plan Record of Decision LD-1, approved on October 5, 1998. The Las Vegas Valley Disposal Boundary Environmental Impact Statement and Record of Decision issued on December 23, 2004, and Las Vegas In-Valley Area Multi-Action Analysis Environmental Assessment (DOI-BLM-NV-S010-2016-0054-EA) analyzed the sale of this parcel. A parcel-specific Determination of National Environmental Policy Act Adequacy, document number DOI-BLM-NV-S010-2023-0076-DNA, was completed in connection with this notice of realty action (Notice). The parcel is not required for any Federal purpose.

Under SNPLMA section 7(b), the Secretary of the Interior, in consultation with the Secretary of Housing and Urban Development, may make BLM-administered public lands available for affordable housing purposes in the State of Nevada at less than the appraised fair market value. Instruction Memorandum NV-2024-005 (Fiscal Year 2024 Price for Affordable Housing Land Disposals and Incorporation of the Memorandum of Understanding for Affordable Housing) set the affordable housing price at $100 per acre for affordable housing disposals processed by the BLM in Nevada during fiscal year 2024 (October 1, 2023, through September 30, 2024). The per-acre price is reflective of the need to reduce the overall price of public land for affordable housing projects to the lowest amount practicable. The total sale price for the 20-acre parcel is $2,000. Though a non-market-based sale price will be utilized for conveyance of this parcel, an appraisal will be completed prior to conveyance to determine the fair market value of the land.

The Clark County Department of Social Services sale nomination includes a comprehensive plan for assessment and evaluation of the need for and feasibility of this affordable housing project. As required by SNPLMA section 7(b), the U.S. Department of Housing and Urban Development reviewed the Cactus Trails Affordable Housing Project and provided the BLM with a consultation letter dated December 13, 2023. The U.S. Department of Housing and Urban Development's consultation letter confirmed that the Cactus Trails Affordable Housing Project “proposes to sell 80 percent of the constructed units to first-time homebuyer[s] with household incomes at or below 80 percent of the area median income (AMI) for the Las Vegas-Henderson-Paradise Metropolitan Statistical Area (MSA). Twenty percent of the units will be sold to first-time homebuyers with household incomes at or below 100 percent of AMI.” The U.S. Department of Housing and Urban Development further confirmed that the Cactus Trails Affordable Housing Project location and need are consistent with section 7(b) of SNPLMA and the Cranston-Gonzales National Affordable Housing Act.

In accordance with regulations at 43 CFR 2710.0-3(a)(2), “Disposal of such tract shall serve important public objectives, including but not limited to, expansion of communities and economic development, which cannot be achieved prudently or feasibly on lands other than public lands, and which outweigh other public objectives and values. . .”. The BLM is offering the identified parcel by direct sale pursuant to 43 CFR 2711.3-3(a) because, consistent with SNPLMA 7(b) and the Nevada Guidance, the parcel would be used for affordable housing purposes, as described in the Disposition and Development Agreement for the Cactus Trails Affordable Housing Project.

According to SNPLMA section 4(c), lands identified within the Las Vegas Valley Disposal Boundary are withdrawn from location and entry under the mining laws and from operation under the mineral leasing and geothermal leasing laws until such time as the Secretary of the Interior terminates the withdrawal or the lands are patented.

Upon publication of this notice in the Federal Register, the described land will be segregated from all forms of appropriation under the public land laws, except for the sale provisions of FLPMA, and the BLM will no longer accept land use applications affecting the parcel identified for sale. The parcel may be subject to land use applications received prior to publication of this notice if processing the application would have no adverse effect on the marketability of title, or the fair market value of the parcel. The segregative effect of this notice terminates upon issuance of a patent or other document of conveyance to such lands, or publication in the Federal Register of a termination of the segregation, whichever occurs first. The total segregation period may not exceed 2 years unless extended by the BLM Nevada State Director in accordance with 43 CFR 2711.1-2(d) prior to the termination date.

The public land would not be offered for sale to the Clark County Department of Social Services prior to 60 days from the date of publication of this notice in the Federal Register. The BLM will publish this notice once a week for 3 consecutive weeks in the Las Vegas Review-Journal newspaper.

The patent, if issued, will be subject to the following covenants, terms, and conditions:

1. Affordable Housing: Pursuant to section 7(b) of the Southern Nevada Public Land Management Act (SNPLMA), the term “affordable housing” as used in this sale patent, means housing that serves low-income families as defined in section 104 of the Cranston-Gonzales National Affordable Housing Act (42 U.S.C. 12704).

2. Certificate of Occupancy: For purposes of this sale patent, the term “Certificate of Occupancy” means a document issued by a State or local governmental entity with jurisdiction upon completion of a structure designed and permitted for immediate occupancy after completion and final approval of all permitted work, including all planned residential living units. This term does not include temporary certificates which require a final certificate to be issued upon completion of all permitted work. Certificates of Occupancy are issued by the Clark County Building Official or Building Division in Clark County, Nevada.

3. Covenant and Restriction: The Clark County Department of Social Services is hereby bound and covenants for itself and all successors-in-interest to use the land as approved by the U.S. Department of the Interior, Bureau of Land Management (BLM) in consultation with the U.S. Department of Housing and Urban Development (HUD), and as conveyed by this sale patent, only for affordable housing purposes. The Clark County Department of Social Services further hereby covenants and binds itself and all successors-in-interest to develop the subject parcel according to a binding development agreement, also known as a Disposition and Development Agreement, between the Clark County Department of Social Services and its co-developers that has received concurrence by the BLM in consultation with HUD. As in this patent, the agreement shall have a provision stating that in the event of any conflict between the terms of the agreement and the patent and applicable laws, the patent and applicable laws will control. This covenant will be deemed appurtenant to and to run with the land.

4. Limited Reversion of Title: If, at the end of 5 years from the date of this sale patent, except as provided herein, the affordable housing project described in the aforementioned development agreement between the Clark County Department of Social Services and its co-developers is not authorized for residential occupancy through a final Certificate of Occupancy then, at the option of the United States, the lands, or parts thereof, will revert to the United States, or, in the alternative, the United States may require payment by the owner to the United States of the then-current fair market value. Patentee may request in writing to have additional time under this Paragraph to obtain residential occupancy through a final Certificate of Occupancy. The United States, through the BLM, shall have sole discretion to grant or deny Patentee's request.

5. Time Limit: The United States will retain the option to revert title to the land until a final Certificate of Occupancy is issued for the applicable affordable housing project.

6. Fair Market Value: The Clark County Department of Social Services or then current landowner may request at any time to purchase the reserved interests of the United States at the then-current fair market value. The requestor will be responsible for paying all costs of the United States, which is under no obligation to agree to sell, to process such a request.

7. Enforcement: The covenant/use restriction and the limited reversionary interest may be enforced by the BLM or HUD, or their successors-in-interest, after reasonable notice, which includes an opportunity to cure any default within 90 days, to the Clark County Department of Social Services and the landowner of record. If any necessary cure has not been completed and is shown to be impossible to complete by the end of the 90 days, and diligent and substantial efforts are underway to cure such default, a request for a reasonable extension of time to complete cure of such default may be considered by the BLM or HUD.

8. Indemnification and Hold Harmless: By accepting this sale patent, the Clark County Department of Social Services, subject to the limitations of law and to the extent allowed by law, will be responsible for the acts or omissions of its officers, directors and employees in connection with the use or occupancy of the patented real property. Upon transfer as described above, successors-in-interests to the Clark County Department of Social Services of the patented real property, will indemnify, defend, and hold the United States harmless from any costs, damages, claims, causes of action, penalties, fines, liabilities, and judgments of any kind or nature arising from the past, present, and future acts or omissions of the successors-in-interest, or its employees, agents, contractors, or lessees, or any third-party, arising out of or in connection with the successor-in-interest's use, occupancy, or operations on the patented real property. This indemnification and hold harmless agreement includes, but is not limited to, acts and omissions of the successor-in-interest, and its employees, agents, contractors, or lessees, or any third party, arising out of or in connection with the use and/or occupancy of the patented real property which has already resulted or does hereafter result in: (1) Violations of Federal, State, and local laws and regulations that are now or may in the future become applicable to the real property; (2) Judgments, claims or demands of any kind assessed against the United States; (3) Costs, expenses, or damages of any kind incurred by the United States; (4) Other releases or threatened releases of solid or hazardous waste(s) and/or hazardous substances(s), as defined by Federal or State environmental laws, off, on, into or under land, property and other interests of the United States; (5) Other activities by which solid or hazardous substances or wastes, as defined by Federal and State environmental laws are generated, released, stored, used or otherwise disposed of on the patented real property, and any cleanup response, remedial action or other actions related in any manner to said solid or hazardous substances or wastes; or (6) Natural resource damages as defined by Federal and State law. This covenant will be construed as running with the parcel of land patented or otherwise conveyed by the United States, and may be enforced against successors-in-interest by the United States in a court of competent jurisdiction. No representation or warranty of any kind, express or implied, is given or will be given by the United States as to the title, the physical condition, or the past, present, or potential uses of the land proposed for sale. However, to the extent required by law, such land is subject to the requirements of section 120(h) of the Comprehensive Environmental Response Compensation and Liability Act, as amended (42 U.S.C. 9620(h)).

9. Additional terms and conditions that the authorized officer deems appropriate.

If patented, title to the land will be subject to the following numbered reservations to the United States:

1. All minerals are reserved to the United States. Permittees, licensees, and lessees of the United States retain the right to prospect for, mine, and remove such leasable and saleable minerals owned by the United States under applicable law and any regulations that the Secretary of the Interior may prescribe, together with all necessary access and exit rights;

2. A right-of-way is reserved for ditches and canals constructed by authority of the United States under the Act of August 30, 1890 (43 U.S.C. 945); and,

3. A reversionary interest as further defined in the above terms, covenants, and conditions.

If patented, title to the land will be subject to:

1. Valid existing rights, including but not limited to those documented on the BLM public land records at the time of sale.

2. A right-of-way for a sewer mainline granted to the Clark County Water Reclamation District, its successors and assigns, by right-of-way number NVNV-105874515, pursuant to title V of the Act of October 21, 1976 (90 Stat. 2776; 43 U.S.C. 1761);

3. A right-of-way for a water pipeline granted to Clark County, its successors and assigns, by right-of-way number NVNV-105951602, pursuant to title V of the Act of October 21, 1976 (90 Stat. 2776; 43 U.S.C. 1761);

4. A right-of-way for a duck creek flood control granted to Clark County, its successors and assigns, by right-of-way number NVNV-106137894, pursuant to title V of the Act of October 21, 1976 (90 Stat. 2776; 43 U.S.C. 1761);

5. A right-of-way for a natural gas pipeline granted to Southwest Gas Corporation, its successors and assigns, by right-of-way number NVNV-106208503, pursuant to title V of the Act of October 21, 1976 (90 Stat. 2776; 43 U.S.C. 1761);

6. A right-of-way for an underground transmission powerline granted to NV Energy, its successors and assigns, by right-of-way number NVNV-106209573, pursuant to title V of the Act of October 21, 1976 (90 Stat. 2776; 43 U.S.C. 1761);

7. A right-of-way for underground water pipeline granted to the Las Vegas Valley Water District, its successors and assigns, by right-of-way number NVNV-106216462, pursuant to title V of the Act of October 21, 1976 (90 Stat. 2776; 43 U.S.C. 1761);

8. A right-of-way for a drainage facility granted to Clark County, its successors and assigns, by right-of-way number NVNV-106217846, pursuant to title V of the Act of October 21, 1976 (90 Stat. 2776; 43 U.S.C. 1761);

9. A right-of-way for Water Reclamation granted to Clark County, its successors and assigns, by right-of-way number NVNV-106220722, pursuant to title V of the Act of October 21, 1976 (90 Stat. 2776; 43 U.S.C. 1761);

10. A right-of-way for a road and drainage granted to Clark County, its successors and assigns, by right-of-way number NVNV-106250397, pursuant to title V of the Act of October 21, 1976 (90 Stat. 2776; 43 U.S.C. 1761);

11. A right-of-way for a geotechnical study granted to Clark County, its successors and assigns, by right-of-way number NVNV-106338433, pursuant to title V of the Act of October 21, 1976 (90 Stat. 2776; 43 U.S.C. 1761);

The parcel is subject to limitations prescribed by law and regulation, and certain encumbrances in favor of third parties. Prior to patent issuance, a holder of any right-of-way (ROW) within the sale parcel will have the opportunity to amend their ROW for conversion to a new term, including in perpetuity if applicable, or to an easement. The BLM will notify existing ROW holders of record of their ability to convert their compliant ROWs to perpetual ROWs or easements. In accordance with Federal regulations at 43 CFR 2807.15, once notified, each holder may apply for the conversion of their current authorization.

The Clark County Department of Social Services will have until 4 p.m. Pacific Time, 30 days from the date of receiving the sale offer, to respond with a formal offer to purchase the parcel. The full purchase price must be remitted to the BLM Las Vegas Field Office within 180 days of the date of receiving the sale offer. Payment must be submitted in the form of a cash, personal check, certified check, postal money order, bank draft, cashier's check, or made available by electronic fund transfer made payable in U.S. dollars to the “Department of the Interior—Bureau of Land Management” to the BLM Las Vegas Field Office. Failure to meet conditions established for this sale will void the sale and any funds received will be forfeited. Arrangements for electronic fund transfer to the BLM for payment of the balance due must be made a minimum of 14 days prior to the payment due date.

In accordance with 43 CFR 2711.3-1(f), the BLM may accept or reject any offer to purchase or withdraw any parcel of land or interest therein from sale within 30 days, if the BLM authorized officer determines consummation of the sale would be inconsistent with any law, or for other reasons as may be provided by applicable law or regulations. No contractual or other rights against the United States may accrue until the BLM officially accepts the offer to purchase and the full price is paid.

To the extent required by law, the parcel is subject to the requirements of section 120(h) of the Comprehensive Environmental Response, Compensation and Liability Act, 42 U.S.C. 9620(h), as amended. Accordingly, notice is hereby given that the lands have been examined and no evidence was found to indicate that any hazardous substances have been stored for 1 year or more, nor that any hazardous substances have been disposed of or released on the subject properties.

It is the buyer's responsibility to be aware of all applicable Federal, State, and local Government laws, regulations, and policies that may affect the subject land, including any required dedication of lands for public uses. It is also the buyer's responsibility to be aware of existing or prospective uses of nearby properties. When conveyed out of Federal ownership, the land will be subject to any applicable laws, regulations, and policies of the applicable local government for proposed uses. It is the responsibility of the buyer to be aware through due diligence of those laws, regulations, and policies, and to seek any required local approvals for uses. The buyer should make itself aware of any Federal or State law or regulation that may impact the use of the property.

Public comments regarding the sale may be submitted in writing to the address in the ADDRESSES section. Before including your address, phone number, email address, or other personally identifiable information in your comment, you should be aware that your entire comment—including any personally identifiable information—may be made publicly available at any time. While you can ask us in your comment to withhold your personally identifiable information from public review, we cannot guarantee that we will be able to do so.

Information concerning the sale parcel, including encumbrances of record, appraisal (when available), reservations, procedures and conditions, Comprehensive Environmental Response, Compensation and Liability Act, 42 U.S.C. 9620(h), and other environmental documents that may appear in the BLM public files for the sale parcel, are available for review.

Any comments regarding the proposed sale will be reviewed by the BLM Nevada State Director, who may sustain, vacate, or modify this realty action in response to such comments. In the absence of any adverse comments, this realty action will become the final determination of the Department of the Interior.

(Authority: 43 CFR 2711.1-2)

Bruce L. Sillitoe,
Field Manager, Las Vegas Field Office.

[FR Doc. 2024-15622 Filed 7-16-24; 8:45 am]

BILLING CODE 4331-21-P